DEPARTMENT OF TRANSPORTATION

Federal Aviation Administration

14 CFR Part 71

[Docket No. FAA-2008-0817; Airspace Docket No. 08-ANE-101]

Amendment to Class E Airspace; Windsor Locks, Bradley International Airport, CT

AGENCY: Federal Aviation Administration (FAA), DOT.

ACTION: Direct final rule; confirmation of effective date; correction.

SUMMARY: This action confirms the effective date of a direct final rule published in the Federal Register (73 FR 56471) that revises the Class E Airspace at Windsor Locks, Bradley International Airport, CT (BDL) to provide for adequate controlled airspace for those aircraft using Instrument Approach Procedures previously defined using the CHUPP NDB. The CHUPP NDB has been decommissioned, and after evaluation of the extension to the Windsor Locks Class C airspace, the FAA determined that the Class E3 airspace should be retained and extended 1 mile to provide adequate controlled airspace for the Instrument Approach Procedures to BDL. In addition, this action corrects a minor error made in the Airspace Designation.

DATES: Effective 0901 UTC, November 20, 2008. The Director of the Federal Register approves this incorporation by reference action under Title 1, Code of Federal Regulations, part 51, subject to the annual revision of FAA Order 7400.9 and publication of conforming amendments

FOR FURTHER INFORMATION CONTACT: Melinda Giddens, Operations Support Group, Federal Aviation Administration, P.O. Box 20636, Atlanta, Georgia 30320; Telephone (404) 305-5610, Fax 404-305-5572.

SUPPLEMENTARY INFORMATION:

Confirmation of Effective Date

The FAA published this direct final rule with a request for comments in the Federal Register on September 29 (73 FR 56471) amending Class E3 airspace at Windsor Locks, Bradley International Airport, CT (BDL) to provide for adequate controlled airspace for those aircraft using Instrument Approach Procedures to the airport. The FAA uses the direct final rulemaking procedure for a non-controversial rule where the FAA believes that there will be no adverse public comment. This direct final rule advised the public that no adverse comments were anticipated, and that unless a written adverse comment, or a written notice of intent to submit such an adverse comment, were received within the comment period, the regulation would become effective on November 20, 2008. No adverse comments were received, and thus this notice confirms that effective date.

Correction to Final Rule

After publication, it was observed that a grammatical correction was required to correct the Airspace Designation. Therefore, in the Federal Register Docket No. FAA-2008-0817; Airspace Docket No. 08-ANE-101, published on September 29, 2008, (73 FR 56471) make the following correction. On page 56473, in the first column, in the Airspace Designation correct the State identifier (currently CTA) to read “CT”.

For verification and to avoid confusion, the entire description should read as follows:

Paragraph 6003 Class E Airspace Areas Designated as an Extension.

* * * * *

ANE CT E3 Windsor Locks, CT [Revised]

Windsor Locks, Bradley International Airport, CT,

(Lat. 41°56′20″ N., long 72°41′00″ W.)

That airspace extending upward from the surface within 3.2 miles each side of the 224 bearing from the Bradley International Airport (BDL) and extending from the 5 mile radius to 9.6 miles SW of the Bradley International Airport. The Class E airspace area is effective during specific dates and times established in advance by a Notice to Airmen. The effective date and time will thereafter be continuously published in the Airport/Facility directory.

* * * * *

Issued in College Park, Georgia, on October 29, 2008.
Signed by:
Barry A. Knight,
Acting Manager, Operations Support Group, Eastern Service Center, Air Traffic Organization.

[FR Doc. E8-27536 Filed 11-19-08; 8:45 am]

BILLING CODE 4910-13-P